NATIONAL ARCHIVES AND RECORDS ADMINISTRATION

[NARA-2021-017]

National Industrial Security Program Policy Advisory Committee (NISPPAC) Meeting

AGENCY: Information Security Oversight Office (ISOO), National Archives and Records Administration (NARA).

ACTION: Notice of Federal Advisory Committee meeting.

SUMMARY: We are announcing an upcoming meeting of the National Industrial Security Program Policy Advisory Committee (NISPPAC).

DATES: The meeting will be on April 14, 2021, from 10:00 a.m. to 1:00 p.m. EST.

ADDRESSES: The April 14, 2021, meeting will be a virtual meeting. See supplementary procedures below.

FOR FURTHER INFORMATION CONTACT: Heather Harris Pagán, ISOO Program Analyst, by telephone at 202.357.5351, or by email at NISPPAC@nara.gov.

SUPPLEMENTARY INFORMATION: This meeting is open to the public in accordance with the Federal Advisory Committee Act (5 U.S.C. app 2) and implementing regulations at 41 CFR 101-6. The Committee will discuss National Industrial Security Program policy matters.

Procedures: You must register in advance through the Event Services link https://ems8.intellor.com?do=register&t=1&p=836856 if you wish to attend. NISPPAC members, ISOO employees, and speakers should send an email to NISPPAC@nara.gov for the appropriate registration information instead of registering with the above link. Contact us via email at NISPPAC@nara.gov with any questions.

Brian P. McLaughlin,
Acting Committee Management Officer.

[FR Doc. 2021-03002 Filed 2-12-21; 8:45 am]

BILLING CODE 7515-01-P